DEPARTMENT OF ENERGY

Notice of Availability of the Final Environmental Assessment Addendum for Waste Disposition Activities at the Paducah Site, Paducah, KY

AGENCY: Oak Ridge Operations Office, Department of Energy (DOE).

ACTION: Notice of availability.

SUMMARY: The Department of Energy announces the availability of the Finding of No Significant Impact (FONSI) and Environmental Assessment Addendum (EA Addendum) for Waste Disposition Activities at the Paducah Site (DOE/EA-1339A). The EA Addendum has been prepared in accordance with the requirements of the National Environmental Policy Act of 1969 as amended (NEPA) (42 U.S.C. 4321 et seq.); Council on Environmental Quality regulations implementing NEPA, 40 CFR parts 1500-1508; and, DOE NEPA Implementing Procedures, 10 CFR part 1021.

The U.S. Department of Energy has completed an Environmental Assessment Addendum (DOE/EA-1339A) for the disposition of additional waste currently located at the Paducah Site, Paducah, Kentucky. This EA Addendum follows the original EA (DOE/EA-1339), completed November 5, 2002, which analyzed continued waste management operations including disposition of waste from the Paducah Site.

The EA Addendum analyzes transportation of additional waste for disposal at various locations in the United States. Based on the results of the impact analysis reported in the EA Addendum, DOE has determined that the proposed action is not a major federal action that would significantly affect the quality of the human environment within the context of the National Environmental Policy Act of 1969 (NEPA). Therefore, preparation of an environmental impact statement was not necessary, and DOE is issuing this Finding of No Significant Impact (FONSI).

ADDRESSES: Copies of the EA may be obtained from: U.S. Department of Energy, Paducah Site Office, Attn: Mr. Greg Bazzell, P.O. Box 1410, Paducah, KY 42001, by fax (1-270-441-6801), or electronically (bazzellga@oro.doe.gov).

The EA is available for review at the U.S. Department of Energy Environmental Information Center, Barkley Centre, 115 Memorial Drive, in Paducah, Kentucky. The EA is also available at the U.S. Department of Energy Information Center at 475 Oak Ridge Turnpike, Oak Ridge, TN 37830.

For general information on the DOE NEPA process, please contact: Ms. Carol M. Borgstrom, Director, Office of NEPA Policy and Compliance (EH-42), U.S. Department of Energy, 1000 Independence Avenue, SW., Washington, DC 20585, telephone 202-586-4600, or leave a message at 1-800-472-2756.

Issued in Oak Ridge, Tennessee on March 8, 2004.
James L. Elmore,
Alternate Oak Ridge Operations, National Environmental Policy Act, Compliance Officer.

[FR Doc. 04-5882 Filed 3-15-04; 8:45 am]

BILLING CODE 6450-01-P